DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Reporting Requirements for the Ocean Salmon Fishery Off the Coasts of Washington, Oregon, and California.

OMB Approval Number: 0648-0433.

Form Number(s): None.

Type of Request: Regular submission.

Burden Hours: 10.

Number of Respondents: 40.

Average Hours per Response: 15 minutes.

Needs and Uses: Timely and accurate accounting of salmon catch data for a regulatory area subject to quota management is necessary for quota assessment. The requirements to land salmon within specific time frames and in specific areas may be implemented to aid in the catch monitoring process. If unsafe weather conditions or mechanical problems prevent compliance with landing requirements, salmon fishermen are exempt, provided the appropriate notification is made as specified annually in the preseason regulations.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 16, 2007.
Gwellnar Banks,
Management Analyst, Office of the Chief Information Officer.

[FR Doc. E7-22770 Filed 11-20-07; 8:45 am]

BILLING CODE 3510-22-P